DEPARTMENT OF HOMELAND SECURITY

Coast Guard

[Docket No. USCG-2023-0179]

National Towing Safety Advisory Committee; April 2023 Meeting

AGENCY: U.S. Coast Guard, Department of Homeland Security.

ACTION: Notice of Federal Advisory Committee meeting.

SUMMARY: The National Towing Safety Advisory Committee (Committee) will meet to review and discuss matters relating to shallow-draft inland navigation, coastal waterway navigation, and towing safety. The meeting will be open to the public.

DATES:

Meeting: The Committee will hold a meeting on Wednesday, April 12, 2023, from 8 a.m. until 5 p.m. Eastern Daylight Time (EDT). Please note the meeting may close early if the Committee has completed its business.

Comments and supporting documentation: To ensure your comments are received by Committee members before the meeting, submit your written comments no later than March 29, 2023.

ADDRESSES: The meeting will be held at the Crowley Maritime Corporation Headquarters located at 9487 Regency Square Boulevard, Jacksonville, FL 32225 (https://www.crowley.com/?utm_source=gmb&utm_medium=jacksonville&utm_campaign=corporate&utm_content=office).

The National Towing Safety Advisory Committee is committed to ensuring all participants have equal access regardless of disability status. If you require reasonable accommodation due to a disability to fully participate, please email Mr. Matthew D. Layman at Matthew.D.Layman@uscg.mil or call at 202-372-1421 as soon as possible.

Instructions: You are free to submit comments at any time, including orally at the meeting as time permits, but if you want Committee members to review your comment before the meeting, please submit your comments no later than March 29, 2023. We are particularly interested in comments regarding the topics in the “Agenda” section below. We encourage you to submit comments through Federal eRulemaking Portal at https://www.regulations.gov. If your material cannot be submitted using https://www.regulations.gov, call or email the individual in the FOR FURTHER INFORMATION CONTACT section of this document for alternate instructions. You must include the docket number [USCG-2023-0179]. Comments received will be posted without alteration at https://www.regulations.gov including any personal information provided. You may wish to review the Privacy and Security notice available on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Matthew D. Layman, Designated Federal Officer (DFO) of the National Towing Safety Advisory Committee, 2703 Martin Luther King Jr. Ave. SE, Stop 7509, Washington, DC 20593-7509, telephone 202-372-1421, or Matthew.D.Layman@uscg.mil.

SUPPLEMENTARY INFORMATION: Notice of this meeting is in compliance with the Federal Advisory Committee Act, (Pub. L. 117-286, 5 U.S.C., ch. 10). The National Towing Safety Advisory Committee is authorized by section 601 of the Frank LoBiondo Coast Guard Authorization Act of 2018, (Pub. L. 115-282, 132 Stat. 4190), and is codified in 46 U.S.C. 15108. The Committee operates under the provisions of the Federal Advisory Committee Act and 46 U.S.C. 15109. The National Towing Safety Advisory Committee provides advice and recommendations to the Secretary of Homeland Security through the Commandant of the U.S. Coast Guard, on matters related to shallow-draft inland navigation, coastal waterway navigation, and towing safety.

Agenda

The agenda for the National Towing Safety Advisory Committee is as follows:

I. Opening

a. Call to Order and DFO Remarks

b. Committee Chairperson Remarks

c. Roll Call and Determination of Quorum

d. U.S. Coast Guard Leadership Remarks

II. Administration

a. Adoption of Meeting Agenda

b. Approval of Meeting Minutes for Sept. 21, 2022 Committee Meeting

III. Old Business

a. Update from Subcommittees:

○ Task 21-03: Report on the Anticipated Challenges Expected to Impact the Towing Vessel Industry;

○ Task 21-04: Report on the Challenges Faced by the Towing Vessel Industry as a Result of the Covid-19 Pandemic;

○ Task 22-01: Recommendation to the Coast Guard for Rulemaking Improvements to Subchapter M;

○ Task 22-02: Recommendation for Training and Instruction for Crewmembers Working Aboard Subchapter M Inspected Towing Vessels

b. Vetting Subcommittee Update

IV. New Business

a. Committee Planning

V. Information Session

a. USCG Sector Jacksonville Overview

b. CG-ENG, Autonomous Vessels

c. CG-REG, Regulations Policy

d. National Maritime Center

e. Crowley Maritime Corp.

VI. Committee Discussion

VII. Public Comment Period

VIII. Closing Remarks and Plans for Next Meeting

IX. Adjournment of Meeting

A copy of all pre-meeting documentation will be available at https://www.dco.uscg.mil/Our-Organization/Assistant-Commandant-for-Prevention-Policy-CG-5P/Commercial-Regulations-standards-CG-5PS/Office-of-Operating-and-Environmental-Standards/vfos/TSAC/no later than March 29, 2023. Alternatively, you may contact Mr. Matthew Layman as noted above in the FOR FURTHER INFORMATION CONTACT section above.

There will be a public comment period at the end of the meeting. Speakers are requested to limit their comments to 3 minutes. Please note that the public comment period may end before the period allotted, following the last call for comments. Please contact the individual listed in the FOR FURTHER INFORMATION CONTACT section to register as a speaker.

Dated: March 13, 2023.
Jeffrey G. Lantz,
Director of Commercial Regulations and Standards.

[FR Doc. 2023-06218 Filed 3-24-23; 8:45 am]

BILLING CODE 9110-04-P